DEPARTMENT OF HEALTH AND HUMAN SERVICES

Centers for Disease Control and Prevention

[60 Day-01-21]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404)639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Seleda Perryman, CDC Assistant Reports Clearance Officer, 1600 Clifton Road, MS-D24, Atlanta, GA 30333. Written comments should be received within 60 days of this notice.

Proposed Project

Sentinel Surveillance for Chronic Liver Disease (0920-0427)—Extension—National Center for Infectious Diseases (NCID), Centers for Disease Control and Prevention (CDC). A questionnaire has been designed to collect information for the Sentinel Surveillance for Chronic Liver Disease project. The purpose of this project is to determine the incidence and period prevalence of physician-diagnosed chronic liver disease in a defined geographic area, the contribution of chronic viral hepatitis to the burden of disease, and the influence of etiologic agent(s) and other factors on mortality, and to monitor the incidence of and mortality from chronic liver disease over time. The information gathered will be analyzed in conjunction with data collected from other sources to address these questions. The results of the project will assist the Hepatitis Branch, Division of Viral and Rickettsial Diseases, National Center for Infectious Diseases in accomplishing the part of its mission related to preparing recommendations for the prevention and control of all types of viral hepatitis and their sequella. In order to focus on prevention efforts and resource allocation, a representative view of the overall burden of chronic liver disease, its natural history, and the relative contribution of viral hepatitis is needed. The total annualized estimated cost to respondents is $5,000.

Respondents | No. of respondents | No. of responses per respondent | Average burden per response in hours | Total burden in hours
All Consenting adults with physician-diagnosed chronic liver disease living in catchment areas | 500 | 1 | 1 | 500
Total |  |  |  | 500

Dated: February 22, 2001.
Nancy Cheal,
Acting Associate Director for Policy, Planning, and Evaluation, Centers for Disease Control and Prevention.

[FR Doc. 01-5038 Filed 3-1-01; 8:45 am]

BILLING CODE 4163-18-P